DEPARTMENT OF AGRICULTURE

Commodity Credit Corporation

Farm Service Agency

Notice of Intent To Prepare a Programmatic Environmental Impact Statement for the Conservation Reserve Program, Conservation Reserve Enhancement Program and the Emergency Conservation Program and Hold Public Scoping Meetings

AGENCY: Commodity Credit Corporation; Farm Service Agency, USDA.

ACTION: Notice of Intent to Prepare a Programmatic Environmental Impact Statement.

SUMMARY: The Commodity Credit Corporation (CCC) announces its intention to prepare a programmatic environmental impact statement (PEIS) for the Conservation Reserve Program (CRP) and Emergency Conservation Program (ECP). The Draft PEIS will assess the potential environmental impacts of alternatives for administration of the CRP and ECP. Under the CRP, the PEIS will address general sign-up, continuous sign-up, and the Conservation Reserve Enhancement Program (CREP).

The USDA Farm Service Agency (FSA) administers these programs on behalf of the CCC and is now conducting a comprehensive review of them. New regulations may be needed to implement new farm legislation. Also, the PEIS can help review current policies and achievements. FSA hopes to analyze a range of CRP/CREP and ECP program alternatives. The Draft PEIS also provides a means for the public to have opportunities to voice any concerns they may have about the programs, and any ideas for improving them. This Notice of Intent informs the public of the proposal, announces the dates, times, and places for public scoping meetings, solicits public comment, and describes in general the preliminary Draft PEIS proposed action and alternatives.

DATES: To ensure that the full range of issues and alternatives related to the CRP/CREP and ECP are addressed, FSA invites comments on the scope of this proposed Draft PEIS. Comments should be submitted by close of business on May 30, 2002, to ensure consideration. Comments submitted after this date will be considered to the extent possible. See the SUPPLEMENTARY INFORMATION section for the public scoping meeting dates and locations.

ADDRESSES: Written comments on the scope of the draft PEIS and requests for copies of draft PEIS information packages should be directed to CRP PEIS, Post Office Box 6830, Falls Church, Virginia 22046, CRP@mangi.com or telephone (toll free) 1-877-271-3842. See the SUPPLEMENTARY INFORMATION section for public scoping meetings dates and locations.

FOR FURTHER INFORMATION CONTACT: Don Steck, USDA/FSA/CEPD/Stop 0513, 1400 Independence Ave., SW., Washington, DC 20250-0513, (202) 690-0224, or e-mail at: don_steck@wdc.usda.gov or CRP@mangi.com. More detailed information on these programs may also be obtained from the FSA Worldwide Web site at: http://www.fsa.usda.gov/pas/default.asp (general); http://www.fsa.usda.gov/dafp/cepd/default.htm (CRP, CREP and ECP).

SUPPLEMENTARY INFORMATION: The PEIS being prepared on the CRP and ECP will seek to provide FSA decision makers and the public with an analysis that evaluates program effects in many appropriate contexts, describes the intensity of adverse as well as beneficial impacts, and addresses cumulative impacts of the programs being analyzed.

The Food Security Act of 1985, as amended (16 U.S.C. 3831-3836), authorizes the CRP. The program is also governed by the regulations published in 7 CFR part 1410. The CRP is administered by the CCC through the FSA. The purpose of the CRP is to cost-effectively assist farm owners and operators in conserving and improving soil, water, air and wildlife resources. This is accomplished by converting highly-erodible and other environmentally-sensitive acreage normally devoted to the production of agricultural commodities to a long-term resource-conserving cover. CRP participants enter into contracts for 10-15 years in exchange for annual rental payments, cost-share and technical assistance for implementing approved conservation practices.

The CREP is a joint, State/Tribal/Federal land retirement conservation program under the CRP that is targeted to address State, tribal, and nationally significant agriculture-related environmental effects. The primary objectives of CREP are to coordinate Federal and non-federal resources to address specific conservation objectives of a State or tribe and the nation in a cost-effective manner, and to improve water quality, air quality, erosion control, and wildlife habitat related to agricultural use in specific geographic areas.

Title IV of the Agricultural Credit Act of 1978, as amended (16 U.S.C. 2201-2205) authorized the ECP, which provides emergency funding for farmers and ranchers to rehabilitate farmland damaged by wind erosion, floods, hurricanes, or other natural disasters, and for carrying out emergency water conservation measures during periods of severe drought. Conservation problems existing prior to the disaster involved are not eligible for cost-sharing assistance. ECP is administered by the Farm Service Agency State and county committees.

The Draft PEIS will help to review potential environmental impacts resulting from these programs and the results will be used in implementing and approving projects for CRP/CREP and ECP funding. The Record of Decision resulting from the final PEIS will serve as guidance to FSA staff. The Draft PEIS will likely use scenarios to evaluate the environmental and socioeconomic impacts of CRP/CREP and ECP conservation practices in relation to their effectiveness in achieving environmental goals and minimizing any attendant potentially adverse effects. In parallel with preparation of the draft PEIS, FSA will revise the administrative rules for the CRP/CREP and ECP and incorporate any changes that may result from the new Farm Bill.

Public Participation

The public is urged to participate in helping to define the scope of the proposed Programmatic Environmental Impact Statement. In addition to allowing the opportunity to comment via a toll-free telephone line, mail, and e-mail at the addresses listed previously, FSA plans to hold six public scoping meetings to provide information and opportunities for discussing the issues and alternatives to be covered in the Draft PEIS and to receive oral and written comments. Each scoping meeting will be conducted in the evening, from 7:00 p.m. to 9:00 p.m., to allow the greatest opportunity for public input.

The meetings will be held on the following dates in these locations:

• May 7, 2002 7-9 p.m.; Chesapeake College Auditorium; 1000 College Drive; Wye Mills, Maryland 21679

• May 9, 2002 7-9 p.m.; Mobile County Cooperative Extension Auditorium; 1070 Schiller Road North; Mobile, Alabama 36608

• May 14, 2002 7-9 p.m.; Ambassador Hotel; 3100 I-40 West; Amarillo, Texas 79102

• May 16, 2002 7-9 p.m.; Mt. Hood Community College; 2600 SE Stark St.; Portland, Oregon 90730

• May 21, 2002 7-9 p.m.; Holiday Inn; 200 McDonald Dr.; Lawrence, Kansas 66044

• May 23, 2002 7-9 p.m.; Northwest Technical College; 1900 28th Ave. S; Moorehead, Minnesota 56560

Description of Preliminary PEIS Alternatives

FSA has developed a set of preliminary alternatives to be studied in the draft PEIS to initiate the process. This is not a final list of alternatives. The alternatives will be amended, as appropriate, based on input by the public and agencies during the public scoping process.

CRP/CREP Alternatives

New Farm Bill changes

The proposed action is for FSA to implement changes in CRP/CREP administration based on the requirements of new farm legislation should the current Farm Bill under consideration produce new provisions dealing with these programs. Some of the changes being considered in Congress currently include increasing the enrollment cap for CRP/CREP acreage and changing the eligibility and cropping history requirements.

No Program (baseline)

This alternative would be used as an analytical device to establish a baseline upon which to evaluate the other alternatives.

No Action (Current program)

To continue FSA administration of the CRP/CREP as they are now carried out. Under this alternative, FSA will continue administration of the CRP/CREP with no substantive changes.

Program Realignment

Under this alternative FSA would alter the mix of program goals and change acreage allocations to CREP, continuous sign-up and general CRP.

ECP Alternatives

Program Modifications

The proposed action would provide for consolidation of possible program changes including changes to allow for a consistent cost-share rate, do away with the tiered level of cost sharing currently in use, and provide for a higher level of cost share for limited resource producers.

No Action

Under this alternative, ECP would continue as currently administered with no substantive changes.

No Program

This program would be used as an analytical device to establish a baseline upon which to evaluate the other alternative.

Signed in Washington, DC, on April 22, 2002.
James R. Little,
Administrator, Farm Service Agency, and Executive Vice President, Commodity Credit Corporation.

[FR Doc. 02-10165 Filed 4-22-02; 12:45 pm]

BILLING CODE 3410-05-P